DEPARTMENT OF COMMERCE

Foreign-Trade Zones Board

[S-52-2012]

Approval of Subzone Status; Shimadzu USA Manufacturing, Inc., Canby, OR

On May 8, 2012, the Executive Secretary of the Foreign-Trade Zones (FTZ) Board docketed an application submitted by the Port of Portland, grantee of FTZ 45, requesting subzone status subject to the existing activation limit of FTZ 45, on behalf of Shimadzu USA Manufacturing, Inc., in Canby, Oregon.

The application was processed in accordance with the FTZ Act and Regulations, including notice in the Federal Register inviting public comment (77 FR 28568, 05/15/2012). The FTZ staff examiner reviewed the application and determined that it meets the criteria for approval. Pursuant to the authority delegated to the FTZ Board Executive Secretary (15 CFR Sec. 400.36(f)), the application to establish Subzone 45G is approved, subject to the FTZ Act and the Board's regulations, including Section 400.13 and further subject to FTZ 45's pre-existing activation limit.

Dated: August 8, 2012.
Andrew McGilvray,
Executive Secretary.

[FR Doc. 2012-19807 Filed 8-10-12; 8:45 am]

BILLING CODE P